DEPARTMENT OF ENERGY

Federal Energy Regulatory Commission

Notice of Effectiveness of Exempt Wholesale Generator Status

| Docket Nos.
Anemoi Energy Storage, LLC | EG23-142-000
Ebony Energy Storage, LLC | EG23-143-000
Clearwater Wind II, LLC | EG23-144-000
Johnson County Power, LLC | EG23-145-000
RW Miller Power, LLC | EG23-146-000
Jack County Power, LLC | EG23-147-000
Boomtown Solar Energy LLC | EG23-148-000
Delta's Edge Lessee, LLC | EG23-149-000
Solar Partners XI, LLC | EG23-150-000
Horizon Solar, LLC | EG23-151-000
Sun Pond, LLC | EG23-152-000
Oak Lessee, LLC | EG23-153-000
Fox Squirrel Solar LLC | EG23-154-000
Huck Finn Solar, LLC | EG23-155-000
Harvest Gold Solar Power, LLC | EG23-156-000
SMT Alamo LLC | EG23-157-000
SMT Santa Rosa LLC | EG23-158-000
SMT Bay City LLC | EG23-159-000
SMT Elsa LLC | EG23-160-000
SMT Mercedes LLC | EG23-161-000
SMT Mission LLC | EG23-162-000
SMT Los Fresnos LLC | EG23-163-000
SMT Rio Grande LLC | EG23-164-000
SMT Rio Grande II LLC | EG23-165-000
SMT Harlingen II LLC | EG23-166-000
Appaloosa Solar I, LLC | EG23-167-000
Pome BESS LLC | EG23-168-000
Three Corners Solar, LLC | EG23-169-000
Three Corners Prime Tenant, LLC | EG23-170-000
BE-Pine 1 LLC | EG23-171-000
Horus West Virginia I, LLC | EG23-172-000
Horus Louisiana I, LLC | EG23-173-000

Take notice that during the month of July 2023, the status of the above-captioned entities as Exempt Wholesale Generators became effective by operation of the Commission's regulations. 18 CFR 366.7(a) (2022).

Dated: August 1, 2023.
Debbie-Anne A. Reese,
Deputy Secretary.

[FR Doc. 2023-16786 Filed 8-4-23; 8:45 am]

BILLING CODE 6717-01-P